SECURITIES AND EXCHANGE COMMISSION

Sunshine Act Meeting

Notice is hereby given, pursuant to the provisions of the Government in the Sunshine Act, Public Law 94-409, that the Securities and Exchange Commission will hold a fixed income roundtable discussion on Tuesday, April 16, 2013, in the Multipurpose, Room L-006. The meeting will begin at 8:30 a.m. and will be open to the public, with seating on a first-come, first-served basis. Doors will open at 8:00 a.m. Visitors will be subject to security checks. The roundtable will be webcast on the Commission's Web site at www.sec.gov and will be archived for later viewing.

On April 2, 2013, the Commission published notice of the roundtable discussion (Release No. 34-69275), indicating that the event is open to the public and inviting the public to submit written comments to the Commission. This Sunshine Act notice is being issued because a majority of the Commission may attend the roundtable discussion.

The agenda for roundtable includes opening remarks followed by four panel discussions. The participants in the first panel will discuss the characteristics of the municipal securities market today, and how that market has evolved in recent years. The participants in the second panel will focus on the characteristics of the corporate bond and asset-backed securities markets today, how those markets have evolved in recent years, and how they compare to the municipal securities market. The participants in the third panel will discuss whether there are any steps that might be taken to improve the transparency, liquidity, efficiency, or other aspects of the structure of the municipal securities market. The participants in the fourth panel will discuss whether there are any steps that might be taken to improve the transparency, liquidity, efficiency, or other aspects of the structure of the corporate bond and asset-backed securities markets.

For further information, please contact the Office of the Secretary at (202) 551-5400.

Dated: April 9, 2013.
Elizabeth M. Murphy,
Secretary.

[FR Doc. 2013-08746 Filed 4-10-13; 11:15 am]

BILLING CODE 8011-01-P